DEPARTMENT OF COMMERCE

International Trade Administration

[A-570-506]

Porcelain-on-Steel Cooking Ware From the People's Republic of China: Rescission of Antidumping Duty Administrative Review

AGENCY: Import Administration, International Trade Administration, Department of Commerce.

SUMMARY: On January 26, 2000, the Department of Commerce (“the Department”) initiated an administrative review of the antidumping duty order on porcelain-on-steel cooking ware from the People's Republic of China (“PRC”) for one manufacturer/exporter of the subject merchandise, Clover Enamelware Enterprise, Ltd. of China (“Clover”), and its Hong Kong affiliated reseller, Lucky Enamelware Factory Ltd. (“Lucky”), collectively referred to as Clover/Lucky, for the period December 1, 1998 through November 30, 1999. The Department is rescinding this review after receiving a timely withdrawal from the Petitioner, Columbian Home Products, of its request for review.

EFFECTIVE DATE: May 17, 2000.

FOR FURTHER INFORMATION CONTACT: Russell Morris, Group II, Office 6, Import Administration, International Trade Administration, U.S. Department of Commerce, 14th Street and Constitution Avenue, NW, Washington, DC 20230; telephone (202) 482-1775.

The Applicable Statute

Unless otherwise indicated, all citations to the Tariff Act of 1930, as amended (“the Act”), are references to the provisions effective January 1, 1995, the effective date of the Uruguay Round Agreements Act (“URAA”). In addition, unless otherwise indicated, all citations to the Department's regulations are to the regulations at 19 CFR Part 351 (1999).

Background

On December 30, 1999, Petitioner requested that the Department conduct an administrative review of Clover/Lucky, manufacturer and/or reseller of the subject merchandise in the PRC for the period December 1, 1998 through November 30, 1999. On January 26, 2000, the Department published in the Federal Register a notice of initiation of administrative review with respect to Clover/Lucky for the period December 1, 1998 through November 30, 1999. See, Initiation of Antidumping and Countervailing Duty Administrative Reviews, 65 FR 4228 (January 26, 2000). On April 25, 2000, Petitioner requested that it be allowed to withdraw its request for a review and that the review be terminated.

Rescission of Review

Pursuant to 19 CFR 351.213(d)(1), the Department will rescind an administrative review if a party that requested the review withdraws the request within 90 days of the date of publication of the notice of initiation of the requested review. Because the Petitioner's request for termination was submitted within the 90-day time limit, and there were no requests for review from other interested parties, we are rescinding this review. We will issue appropriate appraisement instructions directly to the U.S. Customs Service. This notice is in accordance with section 777(i) of the Act and 19 CFR 351.213(d)(4).

Dated: May 8, 2000.
Holly A. Kuga,
Acting Deputy Assistant Secretary, Import Administration, Group II.

[FR Doc. 00-12326 Filed 5-16-00; 8:45 am]

BILLING CODE 3510-DS-P